DEPARTMENT OF TRANSPORTATION

Federal Aviation Administration

14 CFR Part 39

[Docket No. 2002-CE-01-AD]

RIN 2120-AA64

Airworthiness Directives; SOCATA—Groupe AEROSPATIALE Model TBM 700 Airplanes

AGENCY: Federal Aviation Administration, DOT.

ACTION: Notice of proposed rulemaking (NPRM).

SUMMARY: This document proposes to supersede Airworthiness Directive (AD) 2001-05-03, which applies to certain SOCATA—Groupe AEROSPATIALE (Socata) Model TBM 700 airplanes. AD 2001-05-03 currently requires you to apply Loctite on attaching bolt/screw threads of inboard, central, and outboard carriages; increase tightening torques of associated hardware; and replace central carriage attaching bolts. The French airworthiness authority has determined that certain service information referenced in AD 2001-05-03 be removed and additional inspection of the flap carriage attaching bolts, screws, and barrel nut be included. Therefore, this proposed AD would retain the requirements of the current AD and would add the information communicated by the French airworthiness authority. The actions specified by this proposed AD are intended to prevent loose, or the loss of, flap attaching bolts/screws, which could cause rough or irregular control. Such rough or irregular control could lead to the loss of control of the airplane.

DATES: The Federal Aviation Administration (FAA) must receive any comments on this rule on or before March 15, 2002.

ADDRESSES: Submit comments to FAA, Central Region, Office of the Regional Counsel, Attention: Rules Docket No. 2002-CE-01-AD, 901 Locust, Room 506, Kansas City, Missouri 64106. You may view any comments at this location between 8 a.m. and 4 p.m., Monday through Friday, except Federal holidays.

You may get service information that applies to this proposed AD from SOCATA Groupe AEROSPATIALE, Customer Support, Aerodrome Tarbes-Ossun-Lourdes, BP 930—F65009 Tarbes Cedex, France; telephone: (33) (0)5.62.41.73.00; facsimile: (33) (0)5.62.41.76.54; or the Product Support Manager, SOCATA—Groupe AEROSPATIALE, North Perry Airport, 7501 Pembroke Road, Pembroke Pines, Florida 33023; telephone: (954) 893-1400; facsimile: (954) 964-4191. You may also view this information at the Rules Docket at the address above.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Comments Invited

How do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention to?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your comments, you must include a self-addressed, stamped postcard. On the postcard, write “Comments to Docket No. 2002-CE-01-AD.” We will date stamp and mail the postcard back to you.

Discussion

Has FAA Taken Any Action to This Point?

Reports of two occurrences on Socata Model TBM 700 airplanes where, following a flight, a screw of a flap attachment fitting was found partly unscrewed and another was missing, as a result of flap vibration, caused us to issue AD 2001-05-03, Amendment 39-12139 (66 FR 14308, March 12, 2001). This AD requires the following on Socata Model TBM 700 airplanes:

—Apply Loctite on attaching bolt/screw threads of inboard, central, and outboard carriages;

—Increase tightening torques of associated hardware; and

—Replace central carriage attaching bolts.

You must accomplish these actions in accordance with Socata Mandatory Service Bulletin No. SB 70-087 57, Amendment 1, dated November 2000.

What Has Happened Since AD 2001-05-03 To Initiate This Action?

The Direction Générale de l'Aviation Civile (DGAC), which is the airworthiness authority for France, recently notified FAA of the need to change AD 2001-05-03. The DGAC reports the procedures in the original issue of Socata Mandatory Service Bulletin SB 70-087, dated September, 2000, do not correct the unsafe condition. The DGAC indicates that reference to this service information should be removed from the AD. In addition, the DGAC is requiring the barrel nut be inspected for correct installation, with corrective action as necessary, on certain Socata Model TBM 700 airplanes registered in France.

Is There Service Information That Applies to This Subject?

Socata Mandatory Service Bulletin No. SB 70-087 57, Amendment 1, dated November 2000, applies to this subject and was part of AD 2001-05-03.

What Are the Provisions of This Service Bulletin?

The service bulletin includes procedures for:

—Inspecting the flap carriage attaching bolts and screws for damage and replacing as necessary;

—Applying Loctite on the attaching bolt and screw threads of inboard, central, and outboard carriages;

—Increasing the tightening torques;

—Replacing central carriage attaching bolts; and

—Inspecting the barrel nut for correct positioning, and corrective action as necessary.

What Action Did the DGAC Take?

The DGAC classified this service bulletin as mandatory and issued French AD Number 2000-409(A) R1, dated September 29, 2001, to ensure the continued airworthiness of these airplanes in France.

Was This In Accordance With the Bilateral Airworthiness Agreement?

This airplane model is manufactured in France and is type certificated for operation in the United States under the provisions of section 21.29 of the Federal Aviation Regulations (14 CFR 21.29) and the applicable bilateral airworthiness agreement.

Pursuant to this bilateral airworthiness agreement, the DGAC has kept FAA informed of the situation described above.

The FAA's Determination and an Explanation of the Provisions of the Proposed AD

What Has FAA Decided?

The FAA has examined the findings of the DGAC; reviewed all available information, including the service information referenced above; and determined that:

—The unsafe condition referenced in this document exists or could develop on other Socata Model TBM 700 of the same type design that are on the U.S. registry;

—The actions specified in the previously-referenced service information should be accomplished on the affected airplanes; and

—AD action should be taken in order to correct this unsafe condition.

What Would This Proposed AD Require?

This proposed AD would supersede AD 2001-05-03 with a new AD that would require you to incorporate the actions in the previously-referenced service bulletin and not allow credit for compliance with an earlier edition service bulletin.

Cost Impact

How Many Airplanes Would the Proposed AD Impact?

We estimate that the proposed AD affects 75 airplanes in the U.S. registry.

What Would Be the Cost Impact of the Proposed AD on Owners/Operators of the Affected Airplanes?

We estimate the following costs to accomplish the proposed modifications:

Labor cost | Parts cost | Total cost per airplane | Total cost on U.S. operators
6 workhours × $60 per hour = $360 | $10 | $360 + $10 = $370 | $370 × 75 = $27,750

The only difference between this proposed AD and AD 2001-05-03 is the addition of the inspection of the flap carriage attachment bolts, screws, and barrel nut. The FAA has determined that the cost of this proposed inspection is minimal and does not increase the cost impact over that already required by AD 2001-05-03.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2001-05-03, Amendment 39-12139 (66 FR 14308, March 12, 2001), and by adding a new AD to read as follows:

Socata—Groupe Aerospatiale: Docket No. 2002-CE-01-AD; Supersedes AD 2001-05-03, Amendment 39-12139.

(a) What airplanes are affected by this AD? This AD affects Model TBM 700 airplanes, serial numbers 1 through 164 and 166 through 173, that are certificated in any category.

(b) Who must comply with this AD? Anyone who wishes to operate any of the airplanes identified in paragraph (a) of this AD must comply with this AD.

(c) What problem does this AD address? The actions specified by this AD are intended to prevent loose, or the loss of, flap attaching bolts/screws, which could cause rough or irregular control. Such rough or irregular control could lead to the loss of control of the airplane.

(d) What actions must I accomplish to address this problem? To address this problem, you must accomplish the following:

Actions | Compliance | Procedures
(1) Accomplish the following on the flap carriages: (i) Inspect the inboard and outboard carriage attaching bolts and screws for peening and/or distortion, and replace screws and/or bolts, as necessary; (ii) Apply Loctite on the attaching bolt and screw threads of the inboard and the outboard carriages; (iii) Increase tightening torque of associated hardware; (iv) Inspect the central carriage barrel nut for correct positioning, remove, inspect, and replace, as necessary; (v) Replace the central carriage attaching bolts with new bolts, part number (P/N) Z00.N5109337315; (vi) Apply Loctite on the attaching bolt threads of the central carriage; and (vii) Increase tightening torque of associated hardware | Within the next 100 hours time-in-service (TIS) after the effective date of this AD and thereafter at intervals not to exceed 100 hours TIS | In accordance with the ACCOMPLISHMENT INSTRUCTIONS in Socata Mandatory Service Bulletin SB 70-087 57, Amendment 1, dated November 2000, and the applicable maintenance manual.
(2) If, during compliance with AD 2001-05-03, you accomplished all procedures in Socata Mandatory Service Bulletin SB 70-087 57, Amendment 1, dated November 2000, no further action is required | Not Applicable | In accordance with the ACCOMPLISHMENT INSTRUCTIONS in Socata Mandatory Service Bulletin SB 70-087 57, Amendment 1, dated November 2000, and the applicable maintenance manual.
(3) Do not install any central carriage attaching bolts that are not part number Z00.N5109337315 (or FAA-approved equivalent part number) | As of April 27, 2001 (the effective date of AD 2001-05-03). | Not Applicable.

(e) Can I comply with this AD in any other way?

(1) You may use an alternative method of compliance or adjust the compliance time if:

(i) Your alternative method of compliance provides an equivalent level of safety; and

(ii) The Manager, Standards Office, Small Airplane Directorate, approves your alternative. Submit your request through an FAA Principal Maintenance Inspector, who may add comments and then send it to the Manager, Standards Office, Small Airplane Directorate.

(2) Alternative methods of compliance approved in accordance with AD 2001-05-03, which is superseded by this AD, are not approved as alternative methods of compliance with this AD.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from SOCATA Groupe AEROSPATIALE, Customer Support, Aerodrome Tarbes-Ossun-Lourdes, BP 930—F65009 Tarbes Cedex, France; or the Product Support Manager, SOCATA—Groupe AEROSPATIALE, North Perry Airport, 7501 Pembroke Road, Pembroke Pines, Florida 33023. You may examine these documents at FAA, Central Region, Office of the Regional Counsel, 901 Locust, Room 506, Kansas City, Missouri 64106.

(i) Does this AD action affect any existing AD actions? This amendment supersedes AD 2001-05-03, Amendment 39-12139.

Note 2: The subject of this AD is addressed in French AD 2000-409(A) R1, dated September 29, 2001.

Issued in Kansas City, Missouri, on February 4, 2002.
Michael Gallagher,
Manager, Small Airplane Directorate, Aircraft Certification Service.

[FR Doc. 02-3164 Filed 2-8-02; 8:45 am]

BILLING CODE 4910-13-U